DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board will take place. This meeting will be open to the public.

DATES:

Thursday, November 6, 2014

8:45 a.m.—11:45 a.m. (Open Session)

11:45 a.m.—1:00 p.m. (Preparatory Meeting)

1:00 p.m.—5:00 p.m. (Open Session)

ADDRESSES: Hope Hotel and Richard C. Holbrooke Conference Center, Room B-29 Super Fortress, Building #823, Area A, Gate 12A, Wright-Patterson Air Force Base, Ohio 45433.

FOR FURTHER INFORMATION CONTACT: The Director of the Defense Health Board is Ms. Christine Bader, 7700 Arlington Boulevard, Suite 5101, Falls Church, Virginia 22042, (703) 681-6653, Fax: (703) 681-9539, Christine.bader@dha.mil. For meeting information, please contact Ms. Kendal Brown, 7700 Arlington Boulevard, Suite 5101, Falls Church, Virginia 22042, Kendal.Brown.ctr@dha.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150, and in accordance with section 10(a)(2) of the Federal Advisory Committee Act.

Additional information, including discussion topics and registration instructions, are available at the DHB Web site, http://www.health.mil/About-MHS/Defense-Health-Board/Meetings.

Purpose of the Meeting

The purpose of the meeting is for the Defense Health Board Subcommittees to provide decision briefs or progress updates on the status of their individual taskings before the DHB.

Agenda

Pursuant to 5 U.S.C. 552b, as amended, and 41 CFR 102-3.140 through 102-3.165 and subject to availability of space, the DHB meeting is open to the public from 8:45 a.m. to 11:45 a.m. and 1:00 p.m. to 5:00 p.m. on November 6, 2014. The DHB will receive decision briefings on the Combat Theater Trauma Lessons Learned and Deployment Pulmonary Health reports. In addition, the DHB will receive briefings on the progress being made by the subcommittees on the sustainment and advancement of amputee care, dual loyalties of military medical providers, continuing health education, and post-concussive computerized neurocognitive assessments, as well as a briefing on the Air Force Research Laboratory/711th Human Performance Wing Overview.

Public's Accessibility to the Meeting

Pursuant to 5 U.S.C. 552b, as amended, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Friday, October 31, 2014 to register. On November 6, public attendees access the Hope Hotel on Wright-Patterson Air Force Base through the No Pass Entrance (Gate 12A, on Route 444). Free parking is available at the Hope Hotel.

Special Accommodations

Individuals requiring special accommodations to access the public meeting should contact Ms. Kendal Brown at least five (5) business days prior to the meeting so that appropriate arrangements can be made.

Written Statements

Any member of the public wishing to provide comments to the DHB may do so in accordance with 41 CFR 102-3.105(j) and 102-3.140 and section 10(a)(3) of the Federal Advisory Committee Act, and the procedures described in this notice.

Individuals desiring to provide comments to the DHB may do so by submitting a written statement to the DHB Designated Federal Officer (DFO) (see FOR FURTHER INFORMATION CONTACT). Written statements should address the following details: the issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: October 15, 2014.
Aaron Siegel,
Alternate OSD Federal Register Liaison Officer, Department of Defense.

[FR Doc. 2014-24893 Filed 10-17-14; 8:45 am]

BILLING CODE 5001-06-P